Proclamation 9661 of October 13, 2017

National Forest Products Week, 2017

By the President of the United States of America

A Proclamation

During National Forest Products Week, we recognize the invaluable contribution forest products make to our daily lives, the forest products industry's importance to our economy, and the incredible beauty and recreational opportunities provided by our Nation's woodlands. This year, many of our forests and surrounding communities face blazing wildfires, so we also pray for the safety of our people, our first responders, and our forest habitats.

Our Nation is blessed with millions of acres of forested lands. These lands produce abundant renewable and sustainable natural resources that support our economy. They provide 2.4 million jobs, primarily in rural communities across America, and produce products that help improve our everyday lives. Whether we are writing a note, building a home, or sending a delivery, paper and wood products enable us to do our jobs and live comfortable lives.

America's thriving forest products market helps protect and preserve our abundant forests for future generations. Demand for forest products encourages landowners to replant and maintain healthy forests, knowing that through proper stewardship and responsible management, our precious forests will continue to contribute to our economic prosperity and quality of life.

During National Forest Products Week, we acknowledge and celebrate the many uses of our parks, forests, and woodlands, and we honor the dedicated Americans who work to ensure our forests remain productive and magnificent for future generations.

Recognizing the economic value of the products yielded in our Nation's forests, the Congress, by Public Law 86-753 (36 U.S.C. 123), as amended, has designated the week beginning on the third Sunday in October of each year as “National Forest Products Week” and has authorized and requested the President to issue a proclamation in observance of this week.

NOW, THEREFORE, I, DONALD J. TRUMP, President of the United States of America, by virtue of the authority vested in me by the Constitution and the laws of the United States, do hereby proclaim October 15 through October 21, 2017, as National Forest Products Week. I call upon all Americans to observe this week with appropriate ceremonies and activities and to reaffirm our commitment to our Nation's forests.

IN WITNESS WHEREOF, I have hereunto set my hand this thirteenth day of October, in the year of our Lord two thousand seventeen, and of the Independence of the United States of America the two hundred and forty-second.

[FR Doc. 2017-22936

Filed 10-19-17; 8:45 am]

Billing code 3295-F8-P